DEPARTMENT OF ENERGY

Federal Energy Regulatory Commission

[Docket Nos. CP00-143-000, et al.]

Transcontinental Gas Pipe Line Corporation; Notice of Applications

April 7, 2000.

Take notice that on March 29, 2000, transcontinental Gas Pipe Line Corporation (Applicant), One Williams Center, Suite 4100, Tulsa, Oklahoma, 74172, through its agent, Williams Energy Marketing & Trading Company ¹(Williams), tendered for filing, applications for certificates of public convenience and necessity pursuant to Section 7(b) of the Natural Gas Act (NGA) to abandon certain firm sales agreements under Applicant's Rate Schedule FS between Applicant and various customers pursuant to a Settlement Agreement approved by the Commission in Docket No. CP88-391, et al. on June 19, 1991, as amended by order issued December 17, 1991,² all as more fully set forth in the application, which is on file and open to public inspection. The application may be viewed on the web at www.ferc.fed.us/online/rims.htm (call (202) 208-2222 for assistance).

Applicant asserts that no abandonment of any facility is proposed. Applicant proposes to abandon nineteen service agreements under its Rate Schedule FS. The information is the table below summarizes each individual abandonment application:

¹ Formerly Williams Energy Services Company.

² See orders at 55 FERC ¶61,466 (1991) and 57 FERC ¶ 61,345 (1991).

Docket No. | Customer name | Date of agreement to proposed abandonment of current service | Proposed effective date of abandonment
CP00-143-000 | Peco Energy Company | November 11, 1998 | March 31, 2001.
CP00-144-000 | City of Lexington, North Carolina | March 29, 1999 | March 31, 2001.
CP00-145-000 | City of Shelby, North Carolina | March 26, 1999 | March 31, 2001.
CP00-146-000 | Brooklyn Union Gas Company | March 31, 1999 | March 31, 2001.
CP00-147-000 | Town of Blacksburg South Carolina | March 31, 1999 | March 31, 2001.
CP00-148-000 | City of Kings Mountain, North Carolina | March 29, 1999 | March 31, 2001.
CP00-149-000 | KeySpan Energy Trading Services | March 31, 1999 | March 31, 2001.
CP00-150-000 | City of Union, South Carolina | March 29, 1999 | March 31, 2001.
CP00-151-000 | Public Service Electric and Gas Company | March 1, 1999 | March 31, 2001.
CP00-152-000 | Elizabethtown Gas Company | July 21, 1999 | July 31, 2001.
CP00-153-000 | City of Alexander City, Alabama | March 30, 1999 | March 31, 2001.
CP00-154-000 | City of Laurens, South Carolina | March 29, 1999 | March 31, 2001.
CP00-155-000 | Piedmont Natural Gas Company | January 6, 1999 | March 31, 2001.
CP00-156-000 | Delmarva Power & Light Company | March 25, 1999 | March 31, 2001.
CP00-157-000 | North Carolina Gas Service | March 11, 1999 | March 31, 2001.
CP00-158-000 | South Jersey Gas Company | February 10, 1999 | March 31, 2001.
CP00-159-000 | Consolidated Edison Company of New York | March 24, 1999 | March 31, 2001.
CP00-160-000 | Columbia Gas of Virginia | February 3, 1999 | March 31, 2001.
CP00-161-000 | City of Greer, South Carolina | March 18, 1999 | March 31, 2001.

Any person desiring to be heard or to protest these filings should file a motion to intervene or protest with the Federal Energy Regulatory Commission, 888 First Street, NW., Washington, DC 20426, by or before April 28, 2000, in accordance with Sections 385.214 and 385.211 of the Commission's rules and Regulations. Protests will be considered by the Commission in determining the appropriate action to be taken, but will not serve to make Protestants parties to the proceeding. Any person wishing to become a party must file a motion to intervene. Copies of this filing are on file with the Commission and are available for public inspection in the Public reference Room.

David P. Boergers,
Secretary.

[FR Doc. 00-9170 Filed 4-12-00; 8:45 am]

BILLING CODE 6717-01-M